FEDERAL COMMUNICATIONS COMMISSION

Information Collection Being Reviewed by the Federal Communications Commission Under Delegated Authority

Correction

In notice document 2013-9893 appearing on pages 24744-24745 in the issue of April 26, 2013, make the following correction:

On page 24744, in the third column, directly after SUPPLEMENTARY INFORMATION, the OMB Control Number and Title, which were inadvertently omitted from the document, are added to read as set forth below:

OMB Control Number: 3060-0691.

Title: Section 90.665, Authorization, Construction and Implementation of MTA Licenses—900 MHz Specialized Mobile Radio (SMR) Service.

[FR Doc. C1-2013-09893 Filed 5-20-13; 8:45 am]

BILLING CODE 1505-01-D